DEPARTMENT OF JUSTICE

Antitrust Division

Notice Pursuant to the National Cooperative Research and Production Act of 1993—Institute of Electrical and Electronics Engineers

Notice is hereby given that, on March 10, 2015, pursuant to Section 6(a) of the National Cooperative Research and Production Act of 1993, 15 U.S.C. 4301 et seq. (“the Act”), the Institute of Electrical and Electronics Engineers (“IEEE”) has filed written notifications simultaneously with the Attorney General and the Federal Trade Commission disclosing additions or changes to its standards development activities. The notifications were filed for the purpose of extending the Act's provisions limiting the recovery of antitrust plaintiffs to actual damages under specified circumstances. Specifically, IEEE has provided an updated list of 60 new standards that have been initiated and 45 existing standards that are being revised. More detail regarding these changes can be found at:

http://standards.ieee.org/about/sba/jun2014.html

http://standards.ieee.org/about/sba/aug2014.html

http://standards.ieee.org/about/sba/oct2014.html

http://standards.ieee.org/about/sba/dec2014.html

http://standards.ieee.org/about/sba/feb2014.html.

On February 8, 2015, the IEEE Board of Directors approved an update of the IEEE patent policy standards for development, scheduled to become effective on March 15, 2015. The updated policy is available at http://standards.ieee.org/develop/policies/bylaws/approved-changes.pdf and, from the effective date, will be available at http://standards.ieee.org/develop/policies/bylaws/sec6-7.html.

On September 17, 2004, IEEE filed its original notification pursuant to Section 6(a) of the Act. The Department of Justice published a notice in the Federal Register pursuant to Section 6(b) of the Act on November 3, 2004 (69 FR 64105).

The last notification was filed with the Department on March 26, 2014. A notice was filed in the Federal Register pursuant to Section 6(b) of the Act on April 30, 2014 (79 FR 24450).

Patricia A. Brink,
Director of Civil Enforcement, Antitrust Division.

[FR Doc. 2015-07525 Filed 4-1-15; 8:45 am]

BILLING CODE CODE P